DEPARTMENT OF JUSTICE

Revision to Notice of Lodging of Settlement Agreement Under the Clean Air Act, Comprehensive Environmental Response, Compensation, and Liability Act and the Resource Conservation and Recovery Act Published on March 10, 2011

The notice previously published on March 10, 2011 is hereby revised to clarify that comments to the proposed Settlement Agreement must be received by March 25, 2011. Instructions for sending comments on the proposed Settlement Agreement and for obtaining copies of the proposed Settlement Agreement are provided in the March 10, 2011 Notice (Federal Register/Vol. 76, No. 47/Thursday, March 10, 2011/Notices/page 13208).

Maureen Katz,
Assistant Section Chief, Environmental Enforcement Section, Environment and Natural Resources Division.

[FR Doc. 2011-6045 Filed 3-15-11; 8:45 am]

BILLING CODE 4410-15-P